DEPARTMENT OF AGRICULTURE

Agricultural Marketing Service

[Doc. No. AMS-CN-22-0084]

Advisory Committee on Universal Cotton Standards

AGENCY: Agricultural Marketing Service, USDA.

ACTION: Notice; extension of the nomination application period for the advisory committee on universal cotton standards.

SUMMARY: On March 31, 2023, the U.S. Department of Agriculture (USDA) published in the Federal Register a notice of intent to re-establish and solicit nominations for membership on the USDA Advisory Committee on Universal Cotton Standards (Committee). The nomination application period for this notice has been extended to provide additional opportunities for interested persons to submit their nomination application. The nomination application period for individuals who wish to serve and/or submit nominations to recommend potential candidates for the Advisory Committee on Universal Cotton Standards has been extended until July 1, 2023. USDA seeks nominations of individuals to be considered for selection as Committee members. Re-establishment of the Committee is necessary and in the public interest. The Committee will review official Universal Standards for American Upland cotton prepared by USDA and make recommendations to the Secretary of Agriculture regarding the establishment or revision of standards.

DATES: The deadline for submitting nominations and application materials for membership on the Advisory Committee on Universal Cotton Standards as published on March 31, 2023, (88 FR 19238), has been extended. Nominations and application materials must be submitted by July 1, 2023.

ADDRESSES: Nominations and application materials should be sent to Gretchen Deatherage, Designated Federal Official, Cotton & Tobacco Program, AMS, USDA, 3275 Appling Road, Room 5, Memphis, TN 38133, or by email to Gretchen.Deatherage@usda.gov.

FOR FURTHER INFORMATION CONTACT: Gretchen Deatherage, Designated Federal Official; Phone: (901) 384-3030; Email: Gretchen.Deatherage@usda.gov.

SUPPLEMENTARY INFORMATION: A notice published in the March 31, 2023, Federal Register announced the Secretary of Agriculture's (Secretary) intent to re-establish the Committee for two years. The notice explained the Committee's composition of foreign and domestic cotton industry representatives and explained the Committee's purpose, which would be to review official Universal Standards for U.S. Upland cotton prepared by USDA and make recommendations to the Secretary regarding establishment or revision of the standards established under the United States Cotton Standards Act (7 U.S.C. 51 et seq.). The notice also described the terms for Committee appointees, as well as the process for nominating members and submitting application materials.

The deadline for submitting nominations and application materials was originally announced as May 1, 2023. USDA has received multiple industry requests for an extension to the application period to provide interested persons adequate time to apply. USDA is extending the deadline for nominations and submission of written application materials, which must be received on or before July 1, 2023.

Dated: April 24, 2023.
Cikena Reid,
USDA Committee Management Officer.

[FR Doc. 2023-09231 Filed 5-1-23; 8:45 am]

BILLING CODE 3410-02-P